DEPARTMENT OF THE INTERIOR

Fish and Wildlife Service

[FWS-R8-ES-2015-N041]; [FXES11130800000-154-FF08E00000]

Endangered and Threatened Species; Permits Issued

AGENCY: Fish and Wildlife Service, Interior.

ACTION: Notice of issuance of permits.

DATES: The permit issuance dates are under SUPPLEMENTARY INFORMATION.

SUMMARY: We, the U.S. Fish and Wildlife Service, have issued the following permits to conduct certain activities with endangered species under the authority of the Endangered Species Act, as amended (Act). With some exceptions, the Act prohibits activities with listed species unless a Federal permit is issued that allows such activity.

FOR FURTHER INFORMATION CONTACT: Mr. Daniel Marquez, U.S. Fish and Wildlife Service, Region 8, 2800 Cottage Way, Room W-2606, Sacramento, CA 95825; 760-431-9440 (telephone); or daniel_marquez@fws.gov (email).

SUPPLEMENTARY INFORMATION: We have issued the following permits in response to recovery permit applications we received under the authority of section 10 of the Act, as amended (16 U.S.C. 1531 et seq.). We provide this notice under section 10(d) of the Act. Each permit listed below was issued only after we determined that it was applied for in good faith, that granting the permit would not be to the disadvantage of the listed species, and that the terms and conditions of the permit were consistent with purposes and policy set forth in the Act.

Applicant name | Permit No. | Date issued | Expiration date
CLEVELAND NATIONAL FOREST | 041668 | 8/4/2014 | 8/3/2018
RYAN, THOMAS P. | 097516 | 4/30/2014 | 3/15/2015
HELIX ENVIRONMENTAL PLANNING, INC. | 778195 | 6/17/2014 | 7/26/2015
AMEC ENVIRONMENTAL AND INFRASTRUCTURE, INCORPORATED | 785148 | 4/11/2014 | 12/15/2015
ROMICH, MIKAEL T. | 068799 | 8/4/2014 | 12/22/2015
ALLEN, DOUGLAS W. | 837448 | 12/10/2014 | 2/9/2016
COOPER, TRAVIS B. | 170389 | 3/28/2014 | 7/19/2016
EDWARDS, CLAUDE G. | 814215 | 4/18/2014 | 4/17/2017
FORDE, ANDREW MCGINN | 062907 | 4/18/2014 | 4/17/2017
STERLING, JOHN C. | 22802B | 7/24/2014 | 7/23/2017
DAVERIN, CYNTHIA JONES | 811615 | 7/28/2014 | 7/27/2017
CARTER, KAREN J. | 24603A | 8/4/2014 | 8/3/2017
SANDOVAL, CRISTINA P. | 073205 | 9/1/2014 | 8/31/2017
SAN FRANCISCO BAY BIRD OBSERVATORY | 34570A | 12/10/2014 | 12/9/2017
CALIFORNIA LIVING MUSEUM | 13703B | 1/29/2014 | 1/28/2018
BUSBY, DARIN ANDREW | 115373 | 2/21/2014 | 2/20/2018
KIMBALL, NICOLE M. | 053598 | 2/21/2014 | 2/20/2018
CALIFORNIA STATE PARKS, SAN LUIS OBISPO COAST DISTRICT | 082237 | 3/28/2014 | 3/27/2018
DAVENPORT, ARTHUR E. | 802450 | 3/28/2014 | 3/27/2018
HAYWORTH, ANITA M. | 781084 | 3/28/2014 | 3/27/2018
LEMONS, PAUL M. | 051248 | 3/28/2014 | 3/27/2018
PREITE, ARIANNE B. | 095858 | 3/28/2014 | 3/27/2018
ICF JONES & STOKES, INC. | 795934 | 4/11/2014 | 4/10/2018
WINGERT, CARIE M. | 217119 | 4/11/2014 | 4/10/2018
BRUYEA, GUY P. | 837439 | 6/25/2014 | 6/24/2018
U.S. GEOLOGICAL SURVEY, WESTERN ECOLOGICAL RESEARCH CENTER, SAN FRANCISCO BAY ESTUARY | 020548 | 7/15/2014 | 7/14/2018
GORMAN, LAURA ELIZABETH | 233367 | 7/28/2014 | 7/27/2018
EASTTY, ANDREW BRENT | 227185 | 8/4/2014 | 8/3/2018
MERKEL & ASSOCIATES, INC. | 797999 | 8/19/2014 | 8/18/2018
EAST BAY REGIONAL PARK DISTRICT | 817400 | 9/8/2014 | 9/7/2018
BAILEY, ERIC (RICK) A. | 101151 | 12/3/2014 | 12/2/2018
WALLACE, ANNE C. | 800291 | 12/10/2014 | 12/9/2018
GALVIN, J. PAUL | 821967 | 12/24/2014 | 12/23/2018
NERHUS, BARRY SCOTT | 74785A | 11/3/2014 | 1/31/2016
GROSHOLZ, EDWIN D. | 045937 | 7/15/2014 | 8/16/2016
BLUNDELL, MELISSA ANN-REYES | 97717A | 4/18/2014 | 8/19/2016
YOUNG, RYAN R. | 062121 | 2/21/2014 | 2/20/2017
CHAN, FLORENCE | 22780B | 8/4/2014 | 8/3/2017
KEGEL, TRAVIS | 27501B | 8/4/2014 | 8/3/2017
FLETT, MARY ANNE | 233373 | 9/8/2014 | 9/8/2017
GARDINER, RACHEL J. | 31222B | 11/3/2014 | 11/2/2017
WIGGINTON, RACHEL D. | 30914B | 7/28/2014 | 7/27/2018
EDELSTEIN, DANIEL | 101743 | 12/24/2014 | 12/23/2018
RANDALL, RYAN C. | 76698A | 2/21/2014 | 3/14/2016
FLISIK, TYLER J. | 15265B | 1/31/2014 | 1/30/2017
VETTES, BRENNAN C. | 20160B | 2/14/2014 | 2/13/2017
HOWARD, PHILLIP J. | 15264B | 2/21/2014 | 2/20/2017
SHAW, BRIAN K. | 20914B | 2/21/2014 | 2/20/2017
MARTUS, CAROLYN | 17852B | 3/14/2014 | 3/13/2017
JOHNSON, ROBERT B. | 036935 | 12/3/2014 | 12/2/2017
SCHEUERMAN, CLINT M. | 44855A | 3/7/2014 | 10/6/2015
LIMM, TAMMY C. | 48149A | 12/24/2014 | 12/8/2015
U.S.G.S.-WESTERN ECOLOGICAL RESEARCH CENTER | 157216 | 3/14/2014 | 1/12/2016
AREA WEST ENVIRONMENTAL, INC. | 48210A | 12/10/2014 | 2/9/2016
UNIVERSITY OF CALIFORNIA SACRAMENTO | 192702 | 7/28/2014 | 3/14/2017
SIEMENS, MITCH C. | 190302 | 12/24/2014 | 7/25/2017
SWEET, SAMUEL SPENDER | 025732 | 10/2/2014 | 8/22/2017
LSA ASSOCIATES INCORPORATED | 797234 | 7/15/2014 | 10/31/2017
SWAIM, KAREN E. | 815537 | 1/16/2014 | 1/15/2018
STEAD, JONATHAN E. | 028223 | 1/24/2014 | 1/23/2018
BETTELHEIM, MATTHEW P. | 094845 | 1/31/2014 | 1/30/2018
KOBERNUS, LAWRENCE P. | 205609 | 2/21/2014 | 2/20/2018
ORLOFF, SUE G. | 075898 | 2/21/2014 | 2/20/2018
SLOCOMB, CHRISTINE L. | 13691B | 2/21/2014 | 2/20/2018
SCHELL, ROBERT ANTHONY | 212445 | 3/14/2014 | 3/13/2018
SWOLGAARD, CRAIG A. | 20915B | 3/14/2014 | 3/13/2018
WUNDERLICH, VERONICA A. | 095860 | 3/14/2014 | 3/13/2018
U.S. GEOLOGICAL SURVEY | 005956 | 3/14/2014 | 3/13/2018
EDA C. EGGEMAN | 844030 | 3/28/2014 | 3/27/2018
PARDO, SUMMER LYNN | 02838B | 3/28/2014 | 3/27/2018
JEPSON PRAIRIE RESERVE/DOCENT PROGRAM | 800777 | 4/11/2014 | 4/10/2018
NORTH STAR ENGINEERING | 22798B | 4/11/2014 | 4/10/2018
SAN FRANCISCO PUBLIC UTILITIES COMMISION, NRLMD | 21744B | 4/11/2014 | 4/10/2018
SYCAMORE ENVIRONMENTAL CONSULTANTS, INC. | 799564 | 4/11/2014 | 4/10/2018
BUREAU OF LAND MANAGEMENT, BAKERSFIELD FIELD OFFICE | 037806 | 4/18/2014 | 4/17/2018
DIDONATO, JOSEPH E. | 213308 | 4/18/2014 | 4/17/2018
HALSTEAD, JEFFREY A. | 769304 | 4/18/2014 | 4/17/2018
HENRY, RYAN N. | 031848 | 4/18/2014 | 4/17/2018
MARINE SCIENCE INSTITUTE | 21778B | 4/18/2014 | 4/17/2018
U.S. GEOLOGICAL SURVEY-WESTERN ECOLOGICAL RESEARCH CENTER | 045994 | 6/25/2014 | 6/24/2018
KNAPP, ROLAND A. | 40090B | 7/1/2014 | 6/30/2018
STANISLAUS NATIONAL FOREST | 40087B | 7/1/2014 | 6/30/2018
MIDPENINSULA REGIONAL OPEN SPACE DISTRICT | 225974 | 7/15/2014 | 7/14/2018
SLAUGHTER, CRISTINA VICTORIA | 217401 | 7/24/2014 | 7/23/2018
PEARSON, AUSTIN J. | 108683 | 7/28/2014 | 7/27/2018
SUNSHINE, AARON I. | 28769B | 8/4/2014 | 8/3/2018
DAYTON, GAGE H. | 115370 | 8/20/2014 | 8/19/2018
POWELL, SARAH CHRISTINE | 063427 | 8/20/2014 | 8/19/2018
DALLAS, MITCHELL C. | 102310 | 9/8/2014 | 9/7/2018
McGINNIS, SAMUEL M. | 811894 | 9/8/2014 | 9/7/2018
RIVAS, RICHARD T. | 093151 | 9/8/2014 | 9/7/2018
SMITH, JERRY J. | 793640 | 9/8/2014 | 9/7/2018
MULLEN, DANIELLE A. | 31221B | 11/3/2014 | 11/2/2018
WEINBERG, DANIEL H. | 081298 | 12/2/2014 | 12/1/2018
POWELL, STEVEN D. | 107075 | 12/3/2014 | 12/2/2018
GALLAWAY, JODY M. | 049693 | 12/10/2014 | 12/9/2018
KUNNA, JOHN L. | 40218B | 12/10/2014 | 12/9/2018
SCHEIDT, VINCENT N. | 788133 | 12/10/2014 | 12/9/2018
DAVIS, JOHN H. | 110095 | 12/24/2014 | 12/23/2018
PAGE, CARL J. | 802094 | 12/24/2014 | 12/23/2018
TANSLEY TEAM, INCORPORATED | 795930 | 4/11/2014 | 8/1/2015
COUNTY OF SAN LUIS OBISPO, PUBLIC WORKS DEPT | 076257 | 9/1/2014 | 8/31/2018
LOVE, JULIE M. | 217402 | 12/3/2014 | 12/2/2018
PERNICANO, MARTINA | 72047A | 1/24/2014 | 10/4/2015
STOCKWELL, CRAIG A. | 126141 | 7/15/2014 | 10/13/2015
MCLAUGHLIN, DANA H. | 43597A | 3/14/2014 | 10/27/2015
PUGH, DALLAS RYAN | 79192A | 3/28/2014 | 1/31/2017
NATURAL RESOURCES ASSESSMENT, INC. | 831207 | 1/24/2014 | 1/23/2018
SHOMO, BRIAN S. | 206822 | 1/24/2014 | 1/23/2018
MESSIN, JOSEPH E. | 022649 | 1/31/2014 | 1/30/2018
DALKEY, ANN M. | 217663 | 3/7/2014 | 3/6/2018
ENNIS, ANASTASIA G. | 13639B | 3/7/2014 | 3/6/2018
RICHARD, MICHAEL A. | 207867 | 3/7/2014 | 3/6/2018
COLLINS, PAUL W. | 023895 | 3/14/2014 | 3/13/2018
GROSSO, DIANA J. | 21700B | 3/28/2014 | 3/27/2018
STEWART, JOSEPH A.E. | 25257B | 4/11/2014 | 4/10/2018
DANIELS, BRETT | 24256B | 4/30/2014 | 4/29/2018
TREMOR, SCOTT B. | 787716 | 5/29/2014 | 5/29/2018
YOUNG, CHAD M. | 213730 | 6/25/2014 | 6/24/2018
TOOTHMAN, MARY H. | 40110B | 7/1/2014 | 6/30/2018
JANEKE, DUSTIN SCOTT | 045153 | 7/15/2014 | 7/14/2018
PERRY, RICK L. | 27452B | 7/28/2014 | 7/27/2018
STORRER, JOHN R. | 817397 | 8/4/2014 | 8/3/2018
CROWE, REBECCA E. | 25226B | 9/4/2014 | 9/3/2018
ORR, BRUCE K. | 237086 | 9/8/2014 | 9/7/2018
PEDERSEN, DIRK T. | 198917 | 9/8/2014 | 9/7/2018
CALIFORNIA DEPARTMENT OF FISH AND WILDLIFE | 54614A | 10/8/2014 | 10/7/2018
EZELL, DAVID J. | 022181 | 11/3/2014 | 11/2/2018
RISCHBIETER, DOUGLAS C. | 101154 | 11/3/2014 | 11/2/2018
CHATMAN, GREGORY K. | 075112 | 11/3/2014 | 11/2/2018
KUCERA, THOMAS E. | 796835 | 12/2/2014 | 12/2/2018
SAN DIEGO NATIONAL WILDLIFE REFUGE COMPLEX | 053741 | 12/10/2014 | 12/31/2017
SACRAMENTO FISH AND WILDLIFE OFFICE | 022333 | 3/14/2014 | 11/5/2016
U.S. FISH AND WILDLIFE SERVICE | 062618 | 7/15/2014 | 12/31/2017
KLAMATH FALLS FISH AND WILDLIFE OFFICE | 003314 | 7/15/2014 | 12/31/2017
USFWS-STOCKTON FWO | 188803 | 1/31/2014 | 12/31/2015
ZYCH, ALISA CATHERINE | 72045A | 4/11/2014 | 8/16/2015
ANDERSON, RACHEL B. | 63330A | 7/15/2014 | 4/19/2016
UNIVERSITY OF CALIFORNIA-DAVIS | 027742 | 9/1/2014 | 9/13/2016
HINDERLE, DANNA | 218901 | 9/1/2014 | 1/28/2018
DENISE DUFFY & ASSOCIATES, INC. | 091857 | 2/21/2014 | 2/20/2018
EDWARDS AIR FORCE BASE | 210234 | 3/28/2014 | 3/27/2018
HARRINGTON, LUCY G. | 20148B | 4/11/2014 | 4/10/2018
GRIMALDO, LENNY F. | 36109B | 5/9/2014 | 5/8/2018
U.S. GEOLOGICAL SURVEY | 844852 | 7/1/2014 | 6/30/2018
UNITED STATES GEOLOGICAL SURVEY-WESTERN ECOLOGICAL RESEARCH CENTER | 40112B | 7/1/2014 | 6/30/2018
MENDOCINO REDWOOD COMPANY, LLC | 058630 | 8/15/2014 | 8/14/2018
MURPHY, AMANDA C. | 078657 | 9/1/2014 | 8/31/2018
NICESWANGER, JULIE A. | 196118 | 12/3/2014 | 12/2/2018
MEDICA, PHILIP A. | 759747 | 12/10/2014 | 12/9/2018
GEI CONSULTANTS, INC. | 032198 | 12/24/2014 | 12/23/2018

Availability of Documents

Documents and other information submitted with these applications are available for review, subject to the requirements of the Privacy Act and Freedom of Information Act, by any party who submits a written request for a copy of such documents to Daniel Marquez (see FOR FURTHER INFORMATION CONTACT).

Authority: The authority for this notice is the Endangered Species Act of 1973, as amended (16 U.S.C. 1531 et seq.).

Michael Long,
Acting Regional Director, Pacific Southwest Region, Sacramento, California.

[FR Doc. 2015-03597 Filed 2-20-15; 8:45 am]

BILLING CODE 4310-55-P